SECURITIES AND EXCHANGE COMMISSION

[Release No. 34-104864; File No. SR-MIAX-2026-09]

Self-Regulatory Organizations; Miami International Securities Exchange, LLC; Notice of Filing and Immediate Effectiveness of a Proposed Rule Change by Miami International Securities Exchange, LLC To Amend Exchange Rule 308

February 18, 2026.

Pursuant to the provisions of Section 19(b)(1) of the Securities Exchange Act of 1934 (“Act”),¹ and Rule 19b-4 thereunder,² notice is hereby given that on February 11, 2026, Miami International Securities Exchange, LLC (“MIAX” or “Exchange”) filed with the Securities and Exchange Commission (“Commission”) a proposed rule change as described in Items I and II below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to amend Exchange Rule 308, Exemptions from Position Limits, to move the “box spread” ³ qualified hedge transaction to the category of qualified hedge transactions that are exempt from established position limits as prescribed under Exchange Rule 307(d). The text of the proposed rule change is available on the Exchange's website at https://www.miaxglobal.com/markets/us-options/all-options-exchanges/rule-filings and at MIAX's principal office.

³ The term “box spread” refers to a transaction involving a long call position accompanied by a short put position with the same strike price and a short call position accompanied by a long put position with a different strike price. See Exchange Rule 308(a)(6).

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and Statutory Basis for, the Proposed Rule Change

1. Purpose

Exchange Rule 307 currently establishes position limits for Members.⁴ Exchange Rule 308(a) provides several types of equity hedges that the Exchange codified in its rules that are qualified hedging transactions that are exempt from the position limits provided for in Exchange Rule 307(d). One such qualified hedging transaction is the box spread, which is subject to a position limit equal to five (5) times the standard limit established under Exchange Rule 307(d). All other qualified hedging transactions, other than as provided for in Exchange Rule 308(a)(8),⁵ are not subject to the five times position limit rule, but are exempt from established position limits as prescribed under Exchange Rule 307(d).

⁴ In general, Members may not enter into opening transactions if the Member has reason to believe that as a result of such transaction the Member or its customer would, acting alone or in concert with others, directly or indirectly control an aggregate position in an option contract traded on the Exchange in excess of 25,000 or 50,000 or 75,000 or 200,000 or 250,000 option contracts (whether long or short) of the put type and the call type on the same side of the market respecting the same underlying security, combining for purposes of this position limit long positions in put options with short positions in call options, and short positions in put options with long positions in call options, or such other number of option contracts as may be fixed from time to time by the Exchange as the position limit for one or more classes or series of options; or (2) exceed the applicable position limit fixed from time to time by another exchange for an option contract not traded on the Exchange, when the Member is not a member of the other exchange on which the transaction was effected. See Exchange Rule 307.

⁵ Exchange Rule 308(a)(8) provides the equity hedge exemption for a listed option position hedged on a one-for-one basis with an over-the-counter (“OTC”) option position on the same underlying security. The strike price of the listed option position and corresponding OTC option position must be within one strike of each other and no more than one expiration month apart.

The Exchange now proposes to amend Exchange Rule 308(a) to move the box spread qualified hedging transaction to the category of equity hedges that are exempt from established position limits as prescribed under Exchange Rule 307(d). The Exchange's equity hedge exemption rule is based on the substantively similar rules in place at other options exchanges and the Financial Industry Regulatory Authority, Inc. (“FINRA”), all of which classify the box spread as a qualified hedging transaction that is exempt from the established position limits for each of those exchanges and FINRA.⁶

⁶ See NYSE American LLC Rulebook, Rule 904, Commentary .09; NYSE Arca Inc. Rulebook, Rule 6.8-O, Commentary .07; and FINRA Rule 2360(b)(3)(A)(ii). Nasdaq ISE, LLC and Nasdaq PHLX, LLC recently filed to amend their respective rules to fix prior rule filings that inadvertently classified the box spread in the category of equity hedge exemptions that are limited to five times position limits instead of the fully exempt category. See SR-ISE-2026-03 and SR-Phlx-2026-04 (not yet noticed by the Commission). Both of those filings cite to a 2002 rule filing by the Philadelphia Stock Exchange, Inc., which eliminated position limits for certain qualified hedging transactions, including box spreads. See Securities Exchange Act Release No. 45889 (May 9, 2002), 67 FR 34980 (May 16, 2002) (SR-Phlx-2002-33).

The Exchange notes that Exchange Rule 308 as proposed to be amended by this filing, is incorporated by reference into the rulebooks of MIAX PEARL, LLC (“MIAX Pearl”), MIAX Emerald, LLC (“MIAX Emerald”), and MIAX Sapphire, LLC (“MIAX Sapphire”), and, therefore, is a MIAX Pearl, MIAX Emerald and MIAX Sapphire rule applicable to MIAX Pearl, MIAX Emerald, and MIAX Sapphire members.⁷

⁷ See MIAX Pearl Options Exchange Rulebook, Chapter III; MIAX Emerald Options Exchange Rulebook, Chapter III; and MIAX Sapphire Options Exchange Rulebook, Chapter III.

2. Statutory Basis

The Exchange believes that its proposal is consistent with Section 6(b) of the Act,⁸ in general, and furthers the objectives of Section 6(b)(5) of the Act,⁹ in particular, in that it is designed to promote just and equitable principles of trade, to remove impediments to and perfect the mechanism of a free and open market and a national market system, and, in general to protect investors and the public interest.

⁸ 15 U.S.C. 78f(b).

⁹ 15 U.S.C. 78f(b)(5).

The Exchange believes its proposal to amend Exchange Rule 308(a) to move the box spread qualified hedging transaction to the category of equity hedges that are exempt from established position limits promotes just and equitable principles of trade by providing the same position limit exemption for certain qualified hedging transactions on the Exchange as offered by competing exchanges and FINRA.¹⁰ As described above, NYSE Arca, NYSE American, and FINRA apply the five times position limit standard only to OTC options contracts and both exchanges exempt box spreads from their position limit rules. At this time, the Exchange has been applying a stricter position limit standard. With the proposed change, Members would not have a position limit for a box spread and, therefore, would not have to unwind any position as a result of this amendment.

¹⁰ See supra note 6.

B. Self-Regulatory Organization's Statement on Burden on Competition

The Exchange does not believe that the proposed rule change will impose any burden on competition that is not necessary or appropriate in furtherance of the purposes of the Act. The Exchange believes its proposal to amend Exchange Rule 308(a) to move the box spread qualified hedging transaction to the category of equity hedges that are exempt from established position limits does not impose an undue burden on intra-market competition because all Members that transact box spreads would be exempt from the position limits in Exchange Rule 307(d) on an equal basis. The Exchange believes its proposal does not impose an undue burden on inter-market competition as other options exchanges have similar position limit rules that exempt box spreads from position limits.¹¹

¹¹ See supra note 6.

C. Self-Regulatory Organization's Statement on Comments on the Proposed Rule Change Received From Members, Participants, or Others

Written comments were neither solicited nor received.

III. Date of Effectiveness of the Proposed Rule Change and Timing for Commission Action

Because the foregoing proposed rule change does not: (i) significantly affect the protection of investors or the public interest; (ii) impose any significant burden on competition; and (iii) become operative for 30 days after the date of the filing, or such shorter time as the Commission may designate, it has become effective pursuant to Section 19(b)(3)(A)(iii) of the Act ¹² and subparagraph (f)(6) of Rule 19b-4 thereunder.¹³

¹² 15 U.S.C. 78s(b)(3)(A)(iii).

¹³ 17 CFR 240.19b-4(f)(6). In addition, Rule 19b-4(f)(6) requires a self-regulatory organization to give the Commission written notice of its intent to file the proposed rule change, along with a brief description and text of the proposed rule change, at least five business days prior to the date of filing of the proposed rule change, or such shorter time as designated by the Commission. The Exchange has satisfied this requirement.

A proposed rule change filed under Rule 19b-4(f)(6) ¹⁴ normally does not become operative prior to 30 days after the date of the filing. However, pursuant to Rule 19b-4(f)(6)(iii),¹⁵ the Commission may designate a shorter time if such action is consistent with the protection of investors and the public interest. The Exchange requests that the Commission waive the 30-day operative delay so that the proposed rule change may become operative immediately upon filing. The Exchange states that the proposed rule change would align the Exchange's rule with NYSE American, NYSE Arca, and FINRA rules regarding exemptions from position limits.¹⁶ For this reason, and because the proposal raises no new or novel legal or regulatory issues, the Commission finds that waiver of the 30-day operative delay is consistent with the protection of investors and the public interest. Accordingly, the Commission waives the 30-day operative delay and designates the proposed rule change to be operative upon filing.¹⁷

¹⁴ 17 CFR 240.19b-4(f)(6).

¹⁵ 17 CFR 240.19b-4(f)(6)(iii).

¹⁶ See supra note 6.

¹⁷ For purposes only of waiving the 30-day operative delay, the Commission has considered the proposed rule's impact on efficiency, competition, and capital formation. See 15 U.S.C. 78c(f).

At any time within 60 days of the filing of the proposed rule change, the Commission summarily may temporarily suspend such rule change if it appears to the Commission that such action is necessary or appropriate in the public interest, for the protection of investors, or otherwise in furtherance of the purposes of the Act. If the Commission takes such action, the Commission shall institute proceedings to determine whether the proposed rule should be approved or disapproved.

IV. Solicitation of Comments

Interested persons are invited to submit written data, views, and arguments concerning the foregoing, including whether the proposed rule change is consistent with the Act. Comments may be submitted by any of the following methods:

Electronic comments

• Use the Commission's internet comment form (http://www.sec.gov/rules/sro.shtml); or

• Send an email to rule-comments@sec.gov. Please include File Number SR-MIAX-2026-09 on the subject line.

Paper comments

• Send paper comments in triplicate to Vanessa Countryman, Secretary, Securities and Exchange Commission, 100 F Street NE, Washington, DC 20549-1090.

All submissions should refer to file number SR-MIAX-2026-09. This file number should be included on the subject line if email is used. To help the Commission process and review your comments more efficiently, please use only one method. The Commission will post all comments on the Commission's internet website (https://www.sec.gov/rules/sro.shtml). Copies of the filing also will be available for inspection and copying at the principal office of the Exchange. Do not include personal identifiable information in submissions; you should submit only information that you wish to make available publicly. We may redact in part or withhold entirely from publication submitted material that is obscene or subject to copyright protection. All submissions should refer to file number SR-MIAX-2026-09 and should be submitted on or before March 16, 2026.

For the Commission, by the Division of Trading and Markets, pursuant to delegated authority.¹⁸
¹⁸ 17 CFR 200.30-3(a)(12) and (59).
Sherry R. Haywood,
Assistant Secretary.

[FR Doc. 2026-03450 Filed 2-20-26; 8:45 am]

BILLING CODE 8011-01-P